DEPARTMENT OF THE INTERIOR

National Park Service

[NPS-WASO-NAGPRA-13515; PPWOCRADN0-PCU00RP14.R50000]

Notice of Intent To Repatriate Cultural Items: University of Colorado Museum of Natural History, Boulder, CO

AGENCY: National Park Service, Interior.

ACTION: Notice.

SUMMARY: The University of Colorado Museum of Natural History, in consultation with the appropriate Indian tribes or Native Hawaiian organizations, has determined that the cultural items listed in this notice meet the definition of sacred objects. Lineal descendants or representatives of any Indian tribe or Native Hawaiian organization not identified in this notice that wish to claim these cultural items should submit a written request to the University of Colorado Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the University of Colorado Museum of Natural History at the address in this notice by September 16, 2013.

ADDRESSES: Jen Shannon, Curator of Cultural Anthropology, University of Colorado Museum of Natural History, 218 UCB, Boulder, CO 80309-0218, telephone (303) 492-6276, email jshannon@colorado.edu.

SUPPLEMENTARY INFORMATION: Notice is here given in accordance with the Native American Graves Protection and Repatriation Act (NAGPRA), 25 U.S.C. 3005, of the intent to repatriate cultural items under the control of the University of Colorado Museum of Natural History, Boulder, CO that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Beginning in 1926, Reverend Harold Case acquired everyday objects as well as traditional, religious, and ceremonial items, through gifts, purchases, and items left for collateral by Mandan, Hidatsa, and Arikara individuals living on and near the Fort Berthold Reservation. In 1983, over 300 items from the Case collection were donated to the University of Colorado Museum of Natural History. After extensive consultation, official representatives of the Three Affiliated Tribes of the Fort Berthold Reservation, North Dakota submitted a repatriation claim for five items. The five sacred objects are pipes. The pipe represented by catalog number 33032 is comprised of a red pipestone bowl with a lead inlay and wood stem, which is decorated with black banding. The pipe represented by catalog number 33035 is comprised of a red pipestone bowl and stem, which are joined by a wooden connector. The pipe represented by catalog number 33043 is comprised of a red pipestone bowl and wood stem. The pipe represented by catalog number 33047 is comprised of a black pipestone bowl and wood stem, which is decorated with red, white and blue quillwork, as well as red and yellow ribbons. The pipe represented by catalog number 33049 is comprised of a black pipestone bowl and wood stem, which is decorated with knobby protrusions and a black amorphous pattern.

The provenance of the pipes supports cultural affiliation to the Three Affiliated Tribes of the Fort Berthold Reservation, North Dakota, which is comprised of Mandan, Hidatsa and Arikara peoples. Historic evidence provided during consultation also supports cultural affiliation with the Three Affiliated Tribes of the Fort Berthold Reservation, North Dakota.

Determinations Made by the University of Colorado Museum of Natural History

Officials of the University of Colorado Museum of Natural History have determined that:

• Pursuant to 25 U.S.C. 3001(3)(C), the five cultural items described above are specific ceremonial objects needed by traditional Native American religious leaders for the practice of traditional Native American religions by their present-day adherents.

• Pursuant to 25 U.S.C. 3001(2), there is a relationship of shared group identity that can be reasonably traced between the sacred objects and the Three Affiliated Tribes of the Fort Berthold Reservation, North Dakota.

Additional Requestors and Disposition

Lineal descendants or representatives of any Indian tribe or Native Hawaiian organization not identified in this notice that wish to claim these cultural items should submit a written request with information in support of the claim to Jen Shannon, Curator of Cultural Anthropology, University of Colorado Museum of Natural History, 218 UCB, Boulder, CO 80309-0218, telephone (303) 492-6276, email jshannon@colorado.edu, by September 16, 2013. After that date, if no additional claimants have come forward, transfer of control of the sacred objects to the Three Affiliated Tribes of the Fort Berthold Reservation, North Dakota may proceed.

The University of Colorado Museum of Natural History is responsible for notifying the Three Affiliated Tribes of the Fort Berthold Reservation, North Dakota that this notice has been published.

Dated: July 18, 2013.
Sherry Hutt,
Manager, National NAGPRA Program.

[FR Doc. 2013-20061 Filed 8-15-13; 8:45 am]

BILLING CODE 4312-50-P